DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with May anniversary dates. In accordance with Commerce's regulations, we are initiating those administrative reviews.

DATES: Applicable June 25, 2025.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with May anniversary dates.

All deadlines for the submission of various types of information, certifications, comments, or actions by Commerce discussed below refer to the number of calendar days from the applicable starting time.

Respondent Selection

In the event that Commerce limits the number of respondents for individual examination for administrative reviews initiated pursuant to requests made for the orders identified below, Commerce intends to select respondents based either on U.S. Customs and Border Protection (CBP) data for U.S. imports during the period of review (POR) or questionnaires in which we request the quantity and value (Q&V) of sales, shipments, or exports during the POR. Where Commerce selects respondents based on CBP data, we intend to place the CBP data on the record within five days of publication of the initiation notice. Where Commerce selects respondents based on Q&V data, Commerce intends to place the Q&V questionnaire on the record of the review within five days of publication of the initiation notice. In either case, we intend to make our decision regarding respondent selection within 35 days of publication of the initiation notice in the Federal Register. Comments regarding the CBP data (and/or Q&V data (where applicable)) and respondent selection should be submitted within seven days after the placement of the CBP data/submission of the Q&V data on the record of the review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of the review and will not collapse companies at the respondent selection phase unless there has been a determination to collapse certain companies in a previous segment of the AD proceeding (e.g., investigation, administrative review, new shipper review, or changed circumstances review). For any company subject to the review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Q&V questionnaire for purposes of respondent selection, in general, each company must report volume and value data separately for itself. Parties should not include data for any other party, even if they believe they should be treated as a single entity with that other party. If a company was collapsed with another company or companies in the most recently completed segment of the proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this initiation notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. In addition, all firms that wish to qualify for separate rate status in the administrative reviews of AD orders in which a Q&V questionnaire is issued must complete, as appropriate, either a Separate Rate Application or Certification, and respond to the Q&V questionnaire.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 14 calendar days after publication of this Federal Register notice. In addition to filing a Separate Rate Certification with Commerce no later than 14 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 14 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Certification Eligibility

Commerce may establish a certification process for companies whose exports to the United States could contain both subject and non-subject merchandise. Companies under review that were deemed to not be eligible to participate in the certification program of that proceeding may submit a Certification Eligibility Application to establish that they maintain the necessary systems to track their sales to the United States of subject and non-subject goods.

All firms listed below that are not currently eligible to certify but wish to establish certification eligibility are required to submit a Certification Eligibility Application. The Certification Eligibility Application will be available on Commerce's website at https://access.trade.gov/Resources/Certification-Eligibility-Application.pdf.

Certification Eligibility Applications must be filed according to Commerce's regulations and are due to Commerce no later than 30 calendar days after the publication of the Federal Register notice.

Exporters and producers that are not currently eligible to certify, who submit a Certification Eligibility Application, and are subsequently selected as mandatory respondents must respond to all parts of the questionnaire as mandatory respondents for Commerce to consider their Certification Eligibility Application.

Initiation of Reviews

In accordance with 19 CFR 351.221(c)(1)(i), we are initiating administrative reviews of the following AD and CVD orders and findings. We intend to issue the final results of these reviews not later than May 31, 2026.

| Period to be reviewed
AD Proceedings
BELGIUM: Certain Carbon and Alloy Steel Cut-To-Length Plate, A-423-812 | 5/1/24-4/30/25
Industeel Belgium S.A.
NLMK Clabecq S.A.
NLMK Plate Sales S.A.
NLMK Sales Europe S.A.
NLMK Manage Steel Center S.A.
NLMK La Louviere S.A.
NLMK Dansteel A.S
Nialco SA.
BELGIUM: Stainless Steel Plate in Coils, A-423-808 | 5/1/24-4/30/25
Aperam Stainless Belgium NV
CANADA: Large Diameter Welded Pipe, A-122-863 | 5/1/24-4/30/25
Aciers Lague Steels Inc
Acier Profile SBB Inc
Amdor Inc
BPC Services Group
Bri‐Steel Manufacturing
CFI Metal Inc
Canada Culvert
Canadian National Steel Corp
Canam (St Gedeon)
Cappco Tubular Products Canada Inc
Dominion Pipe & Piling
Enduro Canada Pipeline Services
Evraz Inc. NA
Fi Oilfield Services Canada
Forterra
Gchem Ltd
Graham Construction
Groupe Fordia Inc
Hodgson Custom Rolling
Hyprescon Inc
Interpipe Inc
K K Recycling Services
Kobelt Manufacturing Co
Labrie Environment
Les Aciers Sofatec
Lorenz Conveying Products
MBI Produits De Forge
Matrix Manufacturing
Nor Arc
Peak Drilling Ltd.
Pipe & Piling Supplies Ltd.; 1045761 Ontario Ltd.; Spiralco Inc.
Prudential
Shaw Pipe Protection
Tenaris Algoma Tubes Facility
Tenaris Prudential
Welded Tube of Can Ltd
FRANCE: Carbon and Alloy Steel Cut-To-Length Plate, A-427-828 | 5/1/24-4/30/25
Dillinger France S.A.
GERMANY: Certain Carbon and Alloy Steel Cut-To-Length Plate, A-428-844 | 5/1/24-4/30/25
AG der Dillinger Hüttenwerke
GREECE: Large Diameter Welded Pipe, A-484-803 | 5/1/24-4/30/25
Corinth Pipeworks Pipe Industry S.A.
INDIA: Certain New Pneumatic Off-The-Road Tires,⁴ A-533-869 | 3/1/24-2/28/25
JK Tyres & Industries Ltd.
Sun Tyres And Wheel Systems
INDIA: Organic Soybean Meal, A-533-901 | 5/1/24-4/30/25
Aashiyana Foodstuffs
ABC Fruits
Adani Wilmar Ltd.
Agrawal Oil & Biocheam
Aia Engineering Ltd.
Al Quresh Exp.
Alembic Pharmaceuticals Ltd.
Allana Consumer Products Pvt. Ltd.
Apac Sourcing Solutions Ltd.
Arctal India International
Arn Designs 12. Artevet India LLP
Artevet Therapeutics Pvt. Ltd.
Asa Agrotech Pvt., Ltd.
Aurobindo Pharma Ltd.
Avi Agri Business Ltd.
Avt Natural Products Ltd.
Axis India International
B.H. Handicrafts
Basillia Organics Pvt. Ltd.
Bawa Fishmeal and Oil Co.
Bergwerff Organic (India) Pvt., Ltd.; Suminter India Organic Pvt., Ltd.
Bharat Cereals Pvt., Ltd.
BNS Agro Industries Sarl
Capital Ventures Pvt. Ltd.
Cardolite Speciality Chemicals India LLP
Cloves Inc.
Craft Home
Crest Container Lines Pvt., Ltd.
Dhanay Logistics Pvt., Ltd.
Deccan Fine Chemicals (India) Pvt. Ltd.
Delhi Haat Craft Cottage Industries
Dighvijay Overseas
Divi's Laboratories Ltd.
Eco Gold Nutri and Organics LLP
Ecopure Specialities Ltd.
Euroasias Organics Pvt., Ltd.
Exp. Freight Pvt., Ltd.
Eyeconic Indian Handicraft
Fair Exp. India Pvt., Ltd.
Fermenta Biotech Ltd.
Flex Foods Ltd.
Frigorifico Allana Pvt. Ltd.
Gate Foods Pvt. Ltd.
Gateway Exim
Gee Pee Overseas
Gharda Chemicals Ltd.
Goglocal Pvt. Ltd.
GRS Agritech
HBNT Packaging and Manufacturing Pvt., Ltd.
Healthline Pvt. Ltd.
HK. Exp.
Indauto Filters
Indrani Automotive & Engineering
Infinite Bioscience
Interport Global Logistics Pvt., Ltd.
Issgf India Pvt., Ltd.
ITC Ltd.
J.B. Overseas
Jaeger Products Pvt., Ltd.
Jairaj Adi Global Food Products LLP
Janatha Fish Meal and Oil Product
Jay Keshav Exp. Pvt., Ltd.
JSM Foods
Kamal & Sons
Kemin Industries South Asia Pvt., Ltd.
King Exp.
Krishna Corncob Industries
Lamtuf Ltd.
Larsen & Toubro
Levon Chemicals India Pvt., Ltd.
Lophius
Lupin Ltd.
Luxmi Tea
Magnuss Enterprizes
Makwell Organics Pvt., Ltd.
Makwell Plastisizers Pvt., Ltd.
Manisha Pharmo Pvt., Ltd.
Marinetrans India Pvt., Ltd.
Marksans Pharma Ltd.
Medikonda Nutrients
Menon Renewable Resources (India) Pvt. Ltd.
Molhadeen International Nigeria
Mukka Proteins Ltd.
Natural Remedies Pvt., Ltd.
Noble Shipping
Novel Nutrients Pvt. Ltd.
Nutech Biosciences India Pvt. Ltd.
Orchid Exim India Pvt. Ltd.
Orgonew Pvt. Ltd.
Pachranga Foods
Parikh Enterprises Pvt. Ltd.
Patel Retail Pvt., Ltd.
Pck Agri Ventures Pvt. Ltd.
Pfizer Healthcare India Pvt. Ltd.
Pisces Fashions
Pots and Grains Pvt. Ltd.
Prima Chemicals
Propelor India Pvt., Ltd.
R.P.M. Exim Pvt., Ltd.
R.M. Trading Co.
Radhakrishna Agro Industries Pvt. Ltd.
Radhika Textiles & Handicrafts
Rayban Organics Pvt., Ltd.
Reindeer Organics LLP
Repast Dietary Lifesciences Pvt., Ltd.
Rishabh Gupta Corp. Pvt., Ltd.
Ritz Creations
Rohlig India Pvt., Ltd.
Saastha Warehousing Ltd.
Safewater Lines India Pvt.
Samruddhi Organic Farm (India) Pvt., Ltd.
Samsung Data Systems India Pvt., Ltd.
Sap Oleochemicals Pvt., Ltd.
Sayaji Industries Ltd.
Sethi International
SGR (777) Foods Pvt., Ltd.
Shah Precicast Pvt., Ltd.
Shakti Exim Co.
Shikhar Logistics Pvt., Ltd.
Shreeram Fibres India Pvt. Ltd.
Shree Uday Oil and Foods Industries
Shri Sumati Oil Industries Pvt., Ltd.
Shubhangay Exim Pvt. Ltd.
Singh Agritech Pvt. Ltd.
Soliflex Packaging Pvt., Ltd.
Speciality Indian Food Parks & Exp. Pvt., Ltd.
S.S. India Foods Pvt. Ltd.
Star India Container Line Pvt., Ltd.
Sukhvarsha Projects Pvt., Ltd.
Sunrise Seafoods India Pvt. Ltd.
Suryamitra Exim Pvt., Ltd.
Swaranimakash Life Sciences Pvt. Ltd.
Teamglobal Logistics Pvt., Ltd.
Tejawat Organic Foods
Tex Biosciences Pvt. Ltd.
The Vantage Tradelink
Triveni Interchem Pvt., Ltd.
Unique Fragrances
United Magnetic System
Uno Vetchem
Vahdam Teas Pvt., Ltd.
Veesure Animal Health
Vippy Industries Ltd.
Vishnu Barium Pvt., Ltd.
Vista Processed Foods Pvt. Ltd.
Wellcome Fisheries Ltd.
INDIA: Silicomanganese, A-533-823 | 5/1/24-4/30/25
Alloys and Metals India
Maithan Alloys Ltd.
Shyam Sel and Power Ltd.
INDONESIA: Mattresses,⁵ A-560-836 | 5/1/24-4/30/25
PT Ecos Jaya Indonesia
PT Grantec Jaya Indonesia
PT. Zinus Global Indonesia
ITALY: Certain Carbon and Alloy Steel Cut-To-Length Plate, A-475-834 | 5/1/24-4/30/25
NLMK Verona S.p.A.
Officine Technosider s.r.l.
F.A.R. Fonderie Acciaierie S.p.A.
Ferriera Valsider SpA
Metinvest Trametal SpA.
Pro Form S.R.L.
JAPAN: Diffusion-Annealed Nickel-Plated Flat-Rolled Steel Products, A-588-869 | 5/1/24-4/30/25
Higuchi Manufacturing Co., Ltd.
IHI Corporation
JFE Shoji Corporation
Kohan Shoji Co., Ltd.
Marubeni-Itochu Steel, Inc.
Nichias Corporation
Nikken Lath Kogyo Co., Ltd.
Nippon Steel Trading Co., Ltd.; Nippon Steel Trading Corporation
Oneda Electric Corporation
Panasonic Operational Excellence Co., Ltd.
Rinnai Corporation
Sumisho Metalex Corporation
Tokyo Metal Resources Co., Ltd.
Tomiyasu & Co., Ltd.
Toyo Kohan Co., Ltd.
MALAYSIA: Mattresses, A-557-818 | 5/1/24-4/30/25
APM Auto Parts Marketing
Comfort Coil Technology SDN BHD
CS Vision Supplly SDN BHD
Delandis Furniture (M) SDN BHD
Ever Want (M) SDN BHD
Far East Foam Industries SDN BHD
GGC Global
Hestart Venture
Irama Furniture SDN BHD
Kin Heng Furniture SDN BHD
Lion YTT
Maxmatt Industries SDN BHD
Orient GIC Global
Oyxen Ventures
Perniagaan Jaya Nokkorn
Pinnacle Salute SDN BHD
Premier High Ventures
Vision Foam Ind. SDN BHD
Weld Tack Industries
NETHERLANDS: Certain Preserved Mushrooms, A-421-815 | 5/1/24-4/30/25
Okechamp B.V.
POLAND: Certain Preserved Mushrooms, A-455-806 | 5/1/24-4/30/25
Okechamp S.A.
REPUBLIC OF KOREA: Carbon and Alloy Steel Cut-To-Length Plate, A-580-887 | 5/1/24-4/30/25
POSCO
POSCO International Corporation
REPUBLIC OF KOREA: Carbon and Alloy Steel Wire Rod, A-580-891 | 5/1/24-4/30/25
POSCO; POSCO International Corporation
REPUBLIC OF KOREA: Large Diameter Welded Pipe, A-580-897 | 5/1/24-4/30/25
AJU Besteel Co., Ltd
Chang Won Bending Co., Ltd.
Daiduck Piping Co., Ltd.
Dong Yang Steel Pipe Co., Ltd.
Dongbu Incheon Steel Co., Ltd.
EEW KHPC Co., Ltd.
EEW Korea Co., Ltd.
Geumok Tech. Co., Ltd.
Hansol Metal Co. Ltd.
Histeel Co., Ltd.
Husteel Co., Ltd.
Hyundai RB Co., Ltd
Hyundai Steel Company
Hyundai Steel Pipe Co., Ltd.
Il Jin Nts Co. Ltd.
Kiduck Industries Co., Ltd.
Kum Kang Kind. Co., Ltd. ]
Kumsoo Connecting Co., Ltd.
Nexteel Co., Ltd.
SeAH Steel Corporation
Seonghwa Industrial Co., Ltd.
SIN‐E B&P Co., Ltd.
Steel Flower Co., Ltd.
WELTECH Co., Ltd.
REPUBLIC OF KOREA: Polyester Staple Fiber, A-580-839 | 5/1/24-4/30/25
Huvis Corporation
Toray Advanced Materials Korea, Inc.
REPUBLIC OF TÜRKIYE: Common Alloy Aluminum Sheet,⁶ A-489-839 | 4/1/24-3/31/24
ASAS Aluminyum Sanayi ve Ticaret A.S
Assan Aluminyum Sanayi ve Ticaret A.S.
Kibar Americas, Inc.
Kibar Dis Ticaret A.S
Teknik Aluminyum Sanayi A.S.
REPUBLIC OF TÜRKIYE: Circular Welded Carbon Steel Pipes and Tubes, A-489-501 | 5/1/24-4/30/25
Borusan Birleşik Boru Fabrikalari Sanayi ve Ticaret A.Ş.
REPUBLIC OF TÜRKIYE: Large Diameter Welded Pipe, A-489-833 | 5/1/24-4/30/25
Cagil Makina San ve Tic A.S. AKA Cagil Makina A.S.
Çimtaş Boru Imalatiral Ticaret Ltd.
HDM Celik Boru Sanayi ve Ticaret A.S.; HDM Spiral Kaynakli Boru A.S.⁷
Emek Boru Makina Sanayi ve Ticaret A.S.
Erciyas Celik Boru Sanayi A.S.
Mazlum Mangtay Boru Son. Ins. Tar.Urn.San.ve Tic. A.S.
Noksel Celik Boru Sanayi A.S.
Ozbal Celik Boru San. Tic. Ve TAAH A.S.
Spirally Welded Steel Pipe Inc.
Toscelik Profil ve Sac End. A.S.⁸
Toscelik Spiral Boru Uretim A.S.
Umran Celik Boru Sanayii A.S.
SULTANATE OF: Polyethylene Terephthalate Resin, A-523-810 | 5/1/24-4/30/25
OCTAL SAOC-FZC
TAIWAN: Certain Stainless Steel Plate in Coils, A-583-830 | 5/1/24-4/30/25
Alpha Metal International Co., Ltd.
Aurora Metal International Co., Ltd.
Best Win International Co., Ltd.
Build Up Hardware Co., Ltd.
Chain Chon Industrial Co., Ltd.
Chang Mien Industries Co., Ltd.
Chia Far Industries Factory Co., Ltd.
Chien Shing Stainless Co., Ltd.
China Steel Corporation
China Steel Global Trading Corp.
China Tah Lee Special Steel Co., Ltd.
Chung Hung Steel Co., Ltd.
Da Song Enterprise Co., Ltd.
Da Tsai Stainless Steel Co., Ltd.
East Track Enterprise Co., Ltd.
Froch Enterprise Co., Ltd.
Fu Sheng Rubber & Plastic Industries Co.
Gifull Enterprise Co., Ltd.
Goang Jau Shing Enterprise Co., Ltd.
Goldioceans International Co., Ltd.
High Point Steel Mfg. Co., Ltd.
Hoka Elements Co., Ltd.
Huang-Yi Steel Coil Co., Ltd.
Hwa Yang Stainless Steel Ind Corp.
JJSE Co., Ltd.
JK Industrial Development Corp.
Jye Chi Corporation
Kunn Chuan Enterprise Co., Ltd.
Lien Chy Laminated Metal Co., Ltd.
Lien Kuo Metal Industries Co., Ltd.
Lung An Stainless Ind. Co., Ltd.
Meglobe Co., Ltd.
Omen Bright Co., Ltd.
PFP Taiwan Co., Ltd.
Po Chwen Metal Industrial Co., Ltd.
Pyramid Metal Technology Co., Ltd.
Shang Chen Steel Co., Ltd.
Shiner Steel International Ltd.
Shing Shong Ta Metal Co., Ltd.
Shye Yao Steel Co., Ltd.
Sinkang Industries Co., Ltd.
S-More Steel Materials Co., Ltd.
Stanch Stainless Steel Co., Ltd.
Sun Chun Stainless Co., Ltd.
Sunmax Industrial Inc.
Ta Chen International, Inc.
Ta Chen Stainless Pipe Co., Ltd.
Ta Fong Steel Co., Ltd.
Taiwan Nippon Steel Stainless
Tang Eng Iron Works
Ton Yi Industrial Corp.
Top Sunny Group Corp.
Tsung Yui Enterprise Co., Ltd.
Tung Mung Development Co., Ltd.
Tzong Ji Metals Co., Ltd.
Unity Special Steel Co., Ltd.
Vasteel Enterprises Co., Ltd.
Walsin Lihwa Corp.
Wu Fu Jin
Wuu Jing Enterprise Co., Ltd.
Yc Inox Co., Ltd.
Yeou Ting Industries Co., Ltd.
Yeou Yih Steel Co., Ltd.
Yes Stainless International Co.
Yi Shuenn Enterprise Co., Ltd.
Yieh Corp.
Yieh Loong Enterprise Co., Ltd.
Yieh Mau Corporation
Yuan Long Stainless Steel Corp.
Yue Send Industrial Co., Ltd.
Yuen Chang Stainless Steel Co., Ltd.
Yuh Sheng Stainless Steel Co., Ltd.
TAIWAN: Stilbenic Optical Brightening Agents, A-583-848 | 5/1/24-4/30/25
Teh Fong Min International Co., Ltd.
THE PEOPLE'S REPUBLIC OF CHINA: Aluminum Extrusions, A-570-967 | 5/1/24-4/30/25
AD Solutions
Anji Chang Hong Chain Manufacturing Co., Ltd.
Anji Dingze Technology Co., Ltd.
Assa Abloy (Zhongshan) Security Technology
Assa Abloy Entrance Systems Suzhou
Assa Abloy Global Solutions (Shanghai)
Baolida Window & Door Accessories
Beijing Hongyi Denon International
Beijing Kangtengwei International Trade Co.
Cargo Services Group Limited
Changchun Tianlong Automotive Components Co., Ltd
Chengde Greenlife Home Product Co., Ltd.
Chengdu Metalware Trading Co., Ltd.
Chongqing Chaoli Electric Appliance
Chongqing Millison Technologies Inc
Citic Dicastal Co., Ltd.
CMECH Ltd.
Damco China Limited Ningbo Branch
Dezhou Huamei Windows and Doors Co., Ltd.
Dongguan Kowin Metal Precision Fabrication Co., Ltd.
Ener Technology Co. Limited
Ewellix Motion Technologies (Pinghu)
Foshan Kinghorn Machinery Co., Ltd.
Foshan Zhongfeixin Technology Co., Ltd.
Green & Light Automotive Components
Guangdong Xiongjin Metal Products
Guangzhou Valeo Engine Cooling Co. Ltd.
Hangzhou Douhao Import and Export Co. Ltd.
Hangzhou Susan I E Co., Ltd.
Hangzhou Xline Machinery & Equipment Co., Ltd.
Hebei Jinshi Industrial Metal Co., Ltd
Huzhou Minghua Auto Parts and Co., Ltd.
IKD Co., Ltd.
Jiangsu Tongshun Power Technology Co., Ltd.
Jiangsu Wenhui Steel Engineering
Jianxin Zhao's Technology Co., Ltd.
JOC Machinery Co., Ltd.
KECO Metal Manufacturing (HK) Co., Limited
Lancham International Trade Co., Ltd.
Liberty Lift Solution Shandong Oilfield Equipment Manufacturing Co., Ltd.
Lifestyle Metal Co., Ltd.
Maxwell China Technology Co., Ltd.
Modine Thermal Systems (Changzhou)
Nantong Jianghua Machinery Co., Ltd.
Ningbo Allart International Trade Co.
Ningbo Best Hardware Products Co., Ltd.
Ningbo Daye Garden Industry Co., Ltd.
Ningbo Dungyi & Yulian Casting Co., Ltd.
Ningbo Harsco Machinery Co., Ltd.
Ningbo Lianda Winch Co., Ltd.
Ningbo Mogb Machinery Import & Export Co., Ltd.
Ningbo Wubian Rubber and Plastic Co., Ltd.
Ningbo Yesheng Precision Technical
Ningbo Yongsheng Metal Manufacturing Co., Ltd.
Ningbo Zhenlong Auto Parts Co., Ltd.
Oubao Security Technology Co., Ltd.
Pan Jack Industrial Co., Ltd.
Puhui Home and Leisure Goods Company
Pxi Auto Components (Suzhou) Co., Ltd.
Qingdao Hisense Mould Co., Ltd.
Qingdao Sanheshan Precision Casting
Rainbird Irrigation Equipment Shanghai
Relux Products Ltd.
SAIC Volkswagen Automotive Co., Ltd
Shanghai Homeland Info Tech Co., Ltd.
Shanghai Hongji Metal Products Co., Ltd.
Shanghai Shinekin Automotive Technology Co., Ltd.
Shanghai Zesheng Automotive Technology Co., Ltd.
Shenzhen Wulup S.C.M. Co., Ltd.
Shunde Native Produce Import & Export Co. Ltd.
Sunrise Machinery Co., Ltd.
Suzhou Quality Import and Export Co.
Suzhou Shida Tongtai Automotive Components Co., Ltd.
Synergy Architectural Hardware Limited
Techno Precision (Shen Zhen) Co., Ltd.
Tianjin Wanda Tyre Group Co., Ltd.
United Precision Casting Development Co., Ltd.
Usual Material Group Limited
Via Asia Supply Chain Management Co., Ltd
Wisdom Electronics (Huizhou) Co., Ltd.
Wuxi Bangde Machine Co., Ltd.
Wuxi Dongpeng Metal Products Co., Ltd.
Wuxi Huaguang Car Parts Co., Ltd.
Xiamen Xianghao Trading Co., Ltd.
Yakima (Najing) Precison Industry Co
Yuhuan Huachao Machine Co., Ltd.
Yuyao Nuohai Metalwork Co., Ltd.
Zenith Industry (Shanghai) Co., Ltd.
Zhangqiu Copper and Aluminum Casting
Zhaoqing City Zhisheng Door Control
Zhejiang Dongfeng Refrigeration Components Co., Ltd.
Zhejiang Rongtai Electric Material Co., Ltd.
Zhongce Rubber Group Co., Ltd.
Zhongnan Aluminum Wheel
Zhongnan Industrial Group Limited
Zhongshan Huaguan Hardware Co., Ltd.
ZZF Fence Technology Co., Ltd.
THE PEOPLE'S REPUBLIC OF CHINA: Certain Vertical Shaft Engines between 99cc and up to 225cc, and parts thereof, A-570-124 | 5/1/24-4/30/25
Changzhou Kawasaki and Kwang Yang Engine Co., Ltd.
ChongQing AM Pride Power & Machinery Co., Ltd.
Chongqing Chen Hui Electric Machinery Co., Ltd
Chongqing Dinking Power Machinery Co., Ltd.
Chongqing Ducar Power Equipment Co., Ltd.
Chongqing Hwasdan Power Technology Co., Ltd.
Chongqing Kohler Engines, Ltd.
Chongqing Kohler Motors Co., Ltd.
Chongqing Rato Technology Co., Ltd.
Chongqing Senci Import & Export Trade Co., Ltd
Chongqing Shineray Agricultural Machinery Co., Ltd.
Chongqing Zongshen General Power Machine Co., Ltd.; Chongqing Dajiang Power
Equipment Co., Ltd.; Chongqing Zongshen Power Machinery Co., Ltd.⁹
Fujian Everstrong Lega Power Equipments Co., Ltd.
Kawasaki Heavy Industries, Ltd.
Lifan Technology (Group) Co., Ltd.
Loncin Motor Co., Ltd.
Qianjiang Group Wenling Jennfeng Industry Inc.
Taizhou Sabo Electronics Co., Ltd.
Wenling Qianjiang Imp. & Exp. Co., Ltd.
Zhejiang Amerisun Technology Co., Ltd.
Zhejiang Dobest Power Tools Co., Ltd.
THE PEOPLE'S REPUBLIC OF CHINA: Non-refillable Steel Cylinders, A-570-126 | 5/1/24-4/30/25
Ningbo Eagle Machinery & Technology Co., Ltd.
Sanjiang Kai Yuan Co. Ltd.
Wuyi Xilinde Machinery Manufacture Co., Ltd.
Zhejiang KIN-SHINE Technology Co., Ltd
THE PEOPLE'S REPUBLIC OF CHINA: Stilbenic Optical Brightening Agents, A-570-972 | 5/1/24-4/30/25
Beijing Odyssey Chemical Ind. Co. Ltd.
CSFC Taiwan Enterprise Corporation
Dongguan Tangxia Kong Fung
Hebei Dianchang Chemicals Co. Ltd.
Jiangsu Glory Chemical Co., Ltd.
Jinan Subang Fine Chemical Co., Ltd.
Zhejiang Hongda Chemicals Co., Ltd.
Zhejiang Transfar Whyyon Chemical Co., Ltd.
THE PEOPLE'S REPUBLIC OF CHINA: Citric Acid and Certain Citrate Salts, A-570-937 | 5/1/24-4/30/25
RZBC Group Co., Ltd.
RZBC Co., Ltd.
RZBC Import & Export Co., Ltd.
RZBC (Juxian) Co., Ltd.
UNITED ARAB EMIRATES: Certain Steel Nails, A-520-804 | 5/1/24-4/30/25
Al Falaq Building Materials
Al Khashab Building Materials Co., LLC
Al Rafaa Star Building Materials Est
Al Sabbah Trading and Importing, Est
All Ferro Building Materials, LLC
Asgarali Yousuf Trading Co., LLC
Azymuth Consulting, LLC
Burj Al Tasmeem, Tr
Dubai Wire FZE
Gheewala Hardware Trading Company, LLC
Madar UAE
Master Nails and Pins Manufacturing, LLC/Middle East Manufacturing Steel, LLC
Mustafa Building Materials Co. (LLC)
New World International, LLC
Okzeela Star Building Materials Trading, LLC
Rich Well Steel Industries LLC
Rishi International, FZCO
Samrat Wire Industry, LLC
Sea Land Contracting Trade Circle Enterprises, LLC
SK Metal International DMCC
CVD Proceedings
INDIA: Organic Soybean Meal, C-533-902 | 1/1/24-12/31/24
Aashiyana Foodstuffs
Agrawal Oil & Biocheam
Aia Engineering Ltd.
Ajanta Pharma Ltd.
Al Quresh Exp.
Allana Consumer Products Pvt. Ltd.
Artevet India LLP
Asa Agrotech Pvt., Ltd.
Avi Agri Business Ltd.
Avt Natural Products Ltd.
Basillia Organics Pvt. Ltd.
Bawa Fishmeal and Oil Co.
Bergwerff Organic (India) Pvt., Ltd.; Suminter India Organics Private Limited
Bharat Cereals Pvt., Ltd.
BNS Agro Industries Sarl
Cardolite Specialty Chemicals India LLP
Craft Home
Dahnay Logistics Pvt., Ltd.
Divi's Laboratories Ltd.
Dr. Reddys Laboratories Ltd.
Ecopure Specialities Ltd.
Epsilon Carbon Pvt., Ltd.
Euroasias Organics Pvt., Ltd.
Exp. Freight Pvt., Ltd.
Expeditors International (India) Pvt., Ltd.
Fair Exp. India Pvt., Ltd.
Flex Foods Ltd.
Frigorifico Allana Pvt. Ltd.
Gate Foods Pvt. Ltd.
Gharda Chemicals Ltd.
Indauto Filters
Indo Gulf Co.
Indrani Automotive & Engineering
Infinite Bioscience
Interport Global Logistics Pvt., Ltd.
J.R. Roadlines Pvt., Ltd
Janatha Fish Meal and Oil Products
Januz Universal
Jay Keshav Exp. Pvt., Ltd.
JSM Foods
Kemin Industries South Asia Pvt., Ltd.
Khanal Foods Pvt., Ltd.
King Exp.
Krishna Corncob Industries
Larsen & Toubro
LG Balakrishnan Bros.
Lupin Ltd.
Luxmi Tea
Magnichem Industries
Medikonda Nutrients
MRL Tyres Ltd.
Mukka Proteins Ltd.
N M Coating
Natural Herbs & Formulations
Natural Remedies Pvt., Ltd.
Noble Shipping
Novel Nutrients Pvt. Ltd.
Nutrivin Agro Pvt., Ltd.
Pachranga Foods
Patel Retail Pvt., Ltd.
Prima Chemicals
Quality Spices and Food Exp. Pvt., Ltd
R.M. Trading Co.
Rayban Organics Pvt., Ltd.
Rohlig India Pvt., Ltd.
Rupen Marketing Pvt., Ltd.
Safewater Lines (India) Pvt., Ltd.
Samruddhi Organic Farm (India) Pvt., Ltd.
Satyendra Fibc Pvt., Ltd.
Sethi International
SGR (777) Foods Pvt., Ltd.
Shah Precicast Pvt., Ltd.
Shikhar Logistics Pvt., Ltd.
Shree Uday Oil and Foods Industries
Shri Sumati Oil Industries Pvt., Ltd.
Soliflex Packaging Pvt., Ltd.
Sona Sunehri Exp.
Speciality Indian Food Parks & Exp. Pvt., Ltd.
Sunrise Seafoods India Pvt. Ltd.
Suprajit Engineering Ltd.
Suryamitra Exim Pvt., Ltd.
TCG Lifesciences Pvt. Ltd.
Tejawat Organic Foods
The Vantage Tradelink
Unichem Laboratories Ltd.
Unique Fragrances
Unovel Industries Pvt., Ltd.
Vippy Industries Ltd.
Vishnu Barium Pvt., Ltd.
REPUBLIC OF KOREA: Certain Carbon and Alloy Steel Cut-To-Length Plate, C-580-888 | 1/1/24-12/31/24
Ajin Industrial Co., Ltd.
BDP International
Blue Track Equipment
Boxco
Boxco, Inc.
Bukook Steel Co., Ltd.
Buma CE Co., Ltd.
China Chengdu International Techno-Economic Cooperation Co., Ltd.
Daehan I.M. Co., Ltd.
Daehan Tex Co., Ltd.
Daeik Eng Co. Ltd.
Daelim Industrial Co., Ltd.
Daesam Industrial Co., Ltd.
Daesin Lighting Co., Ltd.
Daewoo International Corp.
Dong Yang Steel Pipe
DKC
DK Corporation
DK Dongshin Co., Ltd.
Dongbu Steel Co., Ltd.
Dongkuk Industries Co., Ltd.
Dongkuk Steel Mill Co., Ltd.
EAE Automotive Equipment
EEW KHPC Co., Ltd.
Eplus Expo Inc.
GS Global Corp.
Haem Co., Ltd.
Han Young Industries
Hyeon Dae Jong Hap Gong Gu Co. Ltd.
Hyosung Corp.
Hyundai Steel Co.
Jinmyung Frictech Co., Ltd.
Khana Marine Ltd.
Kindus Inc.
Korean Iron and Steel Co., Ltd.
Kyoungil Precision Co., Ltd.
LG Electronics Inc
Menics
POSCO
POSCO International Corp.
POSCO International Corporation
Qian'an Rentai Metal Products Co., Ltd.
Samjin Lnd Co., Ltd
Samsun C&T Corp.
Samsung
Samsung Electronics Co., Ltd.
Shinko
Shipping Imperial Co., Ltd.
Sinchang Eng Co., Ltd.
SK Networks Co., Ltd.
SNP Ltd.
Seogio O/A
Steel N People Ltd.
Summit Industry
Sungjin Co., Ltd.
Wonbang Tech Co., Ltd.
Young Sun Steel.
REPUBLIC OF KOREA: Large Diameter Welded Pipe, C-580-898 | 1/1/24-12/31/24
AJU Besteel Co., Ltd
Chang Won Bending Co., Ltd.
Daiduck Piping Co., Ltd.
Dongbu Incheon Steel Co., Ltd.
Dong Yang Steel Pipe Co., Ltd.
EEW KHPC Co., Ltd.
EEW Korea Co., Ltd.
Hansol Metal Co. Ltd.
Histeel Co., Ltd.
Husteel Co., Ltd.¹⁰
Hyundai RB Co., Ltd.; Shinchang Construction Co., Ltd.
Hyundai Steel Company ¹¹
Hyundai Steel Pipe Co., Ltd.
Il Jin Nts Co. Ltd.
Iljin Nts Co. Ltd.
Kem Solutions Co., Ltd.
Kiduck Industries Co., Ltd.
Kum Kang Kind. Co., Ltd.
Kumsoo Connecting Co., Ltd.
Nexteel Co., Ltd.
POSCO International Corporation
Samkang M&T Co., Ltd.
SeAH Steel Corporation; SeAH Steel Holdings Corporation.
Seonghwa Industrial Co., Ltd.
SIN‐E B&P Co., Ltd.
Steel Flower Co., Ltd.
WELTECH Co., Ltd
REPUBLIC OF TÜRKIYE: Large Diameter Welded Pipe, C-489-834 | 1/1/24-12/31/24
Cagil Makina San ve Tic A.S. AKA Cagil Makina A.S.
Çimtaş Boru Imalatiral Ticaret Ltd.
HDM Celik Boru Sanayi ve Ticaret A.S.; HDM Spiral Kaynakli Boru A.S.¹²
Emek Boru Makina Sanayi ve Ticaret A.S.
Erciyas Celik Boru Sanayi A.S.
Mazlum Mangtay Boru Son. Ins. Tar.Urn.San.ve Tic. A.S.
Noksel Celik Boru Sanayi A.S.
Ozbal Celik Boru San. Tic. Ve TAAH A.S.
Spirally Welded Steel Pipe Inc.
Toscelik Profil ve Sac End. A.S.¹³
Toscelik Spiral Boru Uretim A.S.
Umran Celik Boru Sanayii A.S.
REPUBLIC OF TÜRKIYE: Common Alloy Aluminum Sheet,¹⁴ C-489-840 | 1/1/24-12/31/24
ASAS Aluminyum Sanayi ve Ticaret A.S.
Teknik Aluminyum Sanayi A.S.; TAC Metal Ticaret A.S.
Assan Aluminyum Sanayi ve Ticaret A.S.; Kibar Dis Ticaret A.S.; Kibar Holding A.S. Kibar Americas, Inc.
P.M.S. Metal Profil Aluminyum Sanayi Ve Ticaret A.S.
THE PEOPLE'S REPUBLIC OF CHINA: Non-refillable Steel Cylinders, C-570-127 | 1/1/24-12/31/24
Sanjiang Kai Yuan Co. Ltd
THE PEOPLE'S REPUBLIC OF CHINA: Aluminum Extrusions, C-570-968 | 1/1/24-12/31/24
AD Solutions
Anji Chang Hong Chain Manufacturing Co., Ltd.
Anji Dingze Technology Co., Ltd.
Assa Abloy (Zhongshan) Security Technology
Assa Abloy Entrance Systems Suzhou
Assa Abloy Global Solutions (Shanghai)
Baolida Window & Door Accessories
Beijing Hongyi Denon International
Beijing Kangtengwei International Trade Co.
Cargo Services Group Limited
Changchun Tianlong Automotive Components Co., Ltd
Chengde Greenlife Home Product Co., Ltd.
Chengdu Metalware Trading Co., Ltd.
Chongqing Chaoli Electric Appliance
Chongqing Millison Technologies Inc
Citic Dicastal Co., Ltd.
CMECH Ltd.
Damco China Limited Ningbo Branch
Dezhou Huamei Windows and Doors Co., Ltd.
Dongguan Kowin Metal Precision Fabrication Co., Ltd.
Ener Technology Co. Limited
Ewellix Motion Technologies (Pinghu)
Foshan Kinghorn Machinery Co., Ltd.
Foshan Zhongfeixin Technology Co., Ltd.
Green & Light Automotive Components
Guangdong Xiongjin Metal Products
Guangzhou Valeo Engine Cooling Co. Ltd.
Hangzhou Douhao Import and Export Co. Ltd.
Hangzhou Susan I E Co., Ltd.
Hangzhou Xline Machinery & Equipment Co., Ltd.
Hebei Jinshi Industrial Metal Co., Ltd
Huzhou Minghua Auto Parts and Co., Ltd.
IKD Co., Ltd.
Jiangsu Tongshun Power Technology Co., Ltd.
Jiangsu Wenhui Steel Engineering
Jianxin Zhao's Technology Co., Ltd.
JOC Machinery Co., Ltd.
KECO Metal Manufacturing (HK) Co., Limited
Lancham International Trade Co., Ltd.
Liberty Lift Solution Shandong Oilfield Equipment Manufacturing Co., Ltd.
Lifestyle Metal Co., Ltd.
Maxwell China Technology Co., Ltd.
Modine Thermal Systems (Changzhou)
Nantong Jianghua Machinery Co., Ltd.
Ningbo Allart International Trade Co.
Ningbo Best Hardware Products Co., Ltd.
Ningbo Daye Garden Industry Co., Ltd.
Ningbo Dungyi & Yulian Casting Co., Ltd.
Ningbo Harsco Machinery Co., Ltd.
Ningbo Lianda Winch Co., Ltd.
Ningbo Mogb Machinery Import & Export Co., Ltd.
Ningbo Wubian Rubber and Plastic Co., Ltd.
Ningbo Yesheng Precision Technical
Ningbo Yongsheng Metal Manufacturing Co., Ltd.
Ningbo Zhenlong Auto Parts Co., Ltd.
Oubao Security Technology Co., Ltd.
Pan Jack Industrial Co., Ltd.
Puhui Home and Leisure Goods Company
Pxi Auto Components (Suzhou) Co., Ltd.
Qingdao Hisense Mould Co., Ltd.
Qingdao Sanheshan Precision Casting
Rainbird Irrigation Equipment Shanghai
Relux Products Ltd.
SAIC Volkswagen Automotive Co., Ltd
Shanghai Homeland Info Tech Co., Ltd.
Shanghai Hongji Metal Products Co., Ltd.
Shanghai Shinekin Automotive Technology Co., Ltd.
Shanghai Zesheng Automotive Technology Co., Ltd.
Shenzhen Wulup S.C.M. Co., Ltd.
Shunde Native Produce Import & Export Co. Ltd.
Sunrise Machinery Co., Ltd.
Suzhou Quality Import and Export Co.
Suzhou Shida Tongtai Automotive Components Co., Ltd.
Synergy Architectural Hardware Limited
Techno Precision (Shen Zhen) Co., Ltd.
Tianjin Wanda Tyre Group Co., Ltd.
United Precision Casting Development Co., Ltd.
Usual Material Group Limited
Via Asia Supply Chain Management Co., Ltd
Wisdom Electronics (Huizhou) Co., Ltd.
Wuxi Bangde Machine Co., Ltd.
Wuxi Dongpeng Metal Products Co., Ltd.
Wuxi Huaguang Car Parts Co., Ltd.
Xiamen Xianghao Trading Co., Ltd.
Yakima (Najing) Precison Industry Co
Yuhuan Huachao Machine Co., Ltd.
Yuyao Nuohai Metalwork Co., Ltd.
Zenith Industry (Shanghai) Co., Ltd.
Zhangqiu Copper and Aluminum Casting
Zhaoqing City Zhisheng Door Control
Zhejiang Dongfeng Refrigeration Components Co., Ltd.
Zhejiang Rongtai Electric Material Co., Ltd.
Zhongce Rubber Group Co., Ltd.
Zhongnan Aluminum Wheel
Zhongnan Industrial Group Limited
Zhongshan Huaguan Hardware Co., Ltd.
ZZF Fence Technology Co., Ltd.

Suspension Agreements

⁴ In the initiation notice published on April 28, 2025 (90 FR 17568), we listed two company names with incorrect spellings. We are correcting those errors in this notice.

⁵ We received requests for reviews of the listed companies for this POR, however, this Order has been revoked due to litigation. See Mattresses from Indonesia: Notice of Court Decision Not in Harmony with the Final Determination of Antidumping Duty Investigation; Notice of Amended Final Determination; and Notice of Revocation of Antidumping Order. Should the order be reinstated as a result of pending litigation, we will initiate on these requests at that time.

⁶ The initiation notice that published on May 20, 2025 (90 FR 21459) did not include this case. We are correcting this error in this initiation notice, effective May 20, 2025.

⁷ In English, the name HDM Spiral Kaynakli Celik Boru A.S. is HDM Spirally Welded Steel Pipe Inc.

⁸ In English, the name Toscelik Profil ve Sac End. A.S. is Toscelik Profile and Sheet Ind. Co.

⁹ In the investigation, Commerce treated these companies as a single entity. See Certain Vertical Shaft Engines Between 99cc and Up to 225cc, and Parts Thereof, From the People's Republic of China: Final Affirmative Determination of Sales at Less Than Fair Value and Final Affirmative Determination of Critical Circumstances, in Part, 86 FR 14077 (March 12, 2021). Absent information to the contrary, we intend to continue to treat these companies as a single entity for the purpose of this administrative review.

¹⁰ Subject merchandise both produced and exported by Husteel Co., Ltd. (Husteel) is excluded from the countervailing duty order. See Large Diameter Welded Pipe from the Republic of Korea: Countervailing Duty Order, 84 FR 18773 (May 2, 2019). Thus, Husteel's inclusion in this administrative review is limited to entries for which Husteel was not both the producer and exporter of the subject merchandise.

¹¹ Subject merchandise both produced and exported by Hyundai Steel Company (Hyundai Steel) and subject merchandise produced by Hyundai Steel and exported by Hyundai Corporation are excluded from the countervailing duty order. See Large Diameter Welded Pipe from the Republic of Korea: Countervailing Duty Order, 84 FR 18773 (May 2, 2019). Thus, Hyundai Steel's inclusion in this administrative review is limited to entries for which Hyundai Steel was not both the producer and exporter of subject merchandise.

¹² In English, the name HDM Spiral Kaynakli Celik Boru A.S. is HDM Spirally Welded Steel Pipe Inc.

¹³ In English, the name Toscelik Profil ve Sac End. A.S. is Toscelik Profile and Sheet Ind. Co.

¹⁴ The initiation notice that published on May 20, 2025 (90 FR 21459) did not include this case. We are correcting this error in this initiation notice, effective May 20, 2025.

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹⁵ available at https://www.govinfo.gov/content/pkg/FR-2013-07-17/pdf/2013-17045.pdf, prior to submitting factual information in this segment. Note that Commerce has amended certain of its requirements pertaining to the service of documents in 19 CFR 351.303(f).¹⁶

¹⁵ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹⁶ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.¹⁷ Commerce intends to reject factual submissions in any proceeding segments if the submitting party does not comply with applicable certification requirements.

¹⁷ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁸ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, standalone submission, and clarifies the circumstances under which Commerce will grant untimely-filed requests for the extension of time limits. Please review the Final Rule, available at https://www.gpo.gov/fdsys/pkg/FR-2013-09-20/html/2013-22853.htm, prior to submitting factual information in these segments.

¹⁸ See 19 CFR 351.302.

Notification to Interested Parties

These initiations and this notice are in accordance with section 751(a) of the Act (19 U.S.C. 1675(a)) and 19 CFR 351.221(c)(1)(i).

Dated: June 18, 2025.
Abdelali Elouaradia,
Deputy Assistant Secretary for Enforcement and Compliance.

[FR Doc. 2025-11704 Filed 6-24-25; 8:45 am]

BILLING CODE 3510-DS-P